FEDERAL COMMUNICATIONS COMMISSION

47 CFR Part 54

[WC Docket No. 17-310; FCC 17-164]

Promoting Telehealth in Rural America; Correction

AGENCY: Federal Communications Commission.

ACTION: Notice; correction.

SUMMARY: The Federal Communications Commission (Commission) published a document in the Federal Register of January 3, 2018 seeking comment on how to strengthen the Rural Health Care Program and improve access to telehealth in rural America. The document contained an incorrect reply comment date.

FOR FURTHER INFORMATION CONTACT: Radhika Karmarkar, Wireline Competition Bureau, (202) 418-7400 or TTY: (202) 418-0484.

Correction

In the Federal Register of January 3, 2018, in FR Doc. 2017-28298, on page 303, in the first column, correct the DATES caption to read:

DATES: Comments are due on or before February 2, 2018, and reply comments are due on or before March 5, 2018. If you anticipate that you will be submitting comments, but find it difficult to do so within the period of time allowed by this document, you should advise the contact listed below as soon as possible.

Federal Communications Commission.
Katura Jackson,
Federal Register Liaison Officer.

[FR Doc. 2018-00451 Filed 1-16-18; 8:45 am]

BILLING CODE 6712-01-P